DEPARTMENT OF COMMERCE

National Oceanic and Atmospheric Administration (NOAA)

Marine Protected Areas Federal Advisory Committee; Public Meetings

AGENCY: Department of Commerce, National Ocean Service, (NOAA).

ACTION: Notice of open meetings.

SUMMARY: Notice is hereby given of two meetings via web conference call of the Marine Protected Areas Federal Advisory Committee (Committee). The web conference calls are open to the public, and participants can dial in to the calls. Participants who choose to use the web conferencing feature in addition to the audio will be able to view the presentations as they are being given. Members of the public wishing to listen in should contact Denise Ellis-Hibbett at the email or telephone number below for the call-in number and passcode.

DATES: The meetings will be held on Tuesday, August 16, 2011, from 1 to 3 p.m. E.S.T., and on Tuesday, August 23, from 2 to 4 p.m. E.S.T. These times and the matters to be considered described below are subject to change. Please refer to the web page listed below for the most up-to-date meeting agenda and supporting materials.

ADDRESSES: The meetings will be held via web conference calls.

FOR FURTHER INFORMATION CONTACT: Lauren Wenzel, Acting Designated Federal Officer, MPA FAC, National Marine Protected Areas Center, 1305 East West Highway, Silver Spring, Maryland 20910. (Phone: 301-713-3100 x136, Fax: 301-713-3110); e-mail: lauren.wenzel@noaa.gov; or Denise Ellis-Hibbett (Phone: 301-713-3100 x195; e-mail: denise.ellis-hibbett@noaa.gov; or visit the National MPA Center Web site at http://www.mpa.gov).

SUPPLEMENTARY INFORMATION: The Committee, composed of external, knowledgeable representatives of stakeholder groups, was established by the Department of Commerce (DOC) to provide advice to the Secretary of Commerce and the Secretary of the Interior on implementation of Section 4 of Executive Order 13158 on marine protected areas.

Matters To Be Considered: The Committee will discuss and vote on recommendations on the linkages between marine protected areas and Coastal and Marine Spatial Planning. The focus of the first meeting will be to discuss the issues in the draft recommendations developed by the Coastal and Marine Spatial Planning Subcommittee for the Committee's review and action. The focus of the second meeting will be to vote on the same recommendations. Committee materials for the conference call will be posted at http://www.mpa.gov.

Dated: July 13, 2011
Donna Wieting,
Acting Director, Office of Ocean and Coastal Resource Management, National Ocean Service, National Oceanic Atmospheric Administration.

[FR Doc. 2011-18325 Filed 7-20-11; 8:45 am]

BILLING CODE 3510-22-P